DEPARTMENT OF COMMERCE

National Oceanic and Atmospheric Administration

[RTID 0648-XE431]

Taking and Importing Marine Mammals; Taking Marine Mammals Incidental to Ice Roads and Ice Trails Construction and Maintenance Activities on Alaska's North Slope

AGENCY: National Marine Fisheries Service (NMFS), National Oceanic and Atmospheric Administration (NOAA), Commerce.

ACTION: Notice; issuance of revised Letter of Authorization.

SUMMARY: In accordance with the Marine Mammal Protection Act (MMPA), as amended, its implementing regulations, and NMFS' MMPA Regulations for Taking Marine Mammals Incidental to ice road and ice trail construction, maintenance, and operation in Alaska's North Slope, notification is hereby given that NMFS has issued a revised Letter of Authorization (LOA) to Hilcorp Alaska, LLC (Hilcorp), in place of Eni US Operating Co. Inc. (Eni), for the take of marine mammals incidental to specified construction and maintenance activities.

DATES: The LOA is effective through November 30, 2025.

ADDRESSES: The LOA, original LOA request, request for transferal, and supporting documentation are available online at: https://www.fisheries.noaa.gov/action/incidental-take-authorization-hilcorp-alaska-and-eni-ice-road-and-ice-trail-construction-and. In case of problems accessing these documents, please call the contact listed below (see FOR FURTHER INFORMATION CONTACT).

FOR FURTHER INFORMATION CONTACT: Jenna Harlacher, Office of Protected Resources, NMFS, (301) 427-8401.

SUPPLEMENTARY INFORMATION:

Background

The MMPA prohibits the “take” of marine mammals with certain exceptions. Sections 101(a)(5)(A) and (D) of the MMPA (16 U.S.C. 1361 et seq.) direct the Secretary of Commerce (as delegated to NMFS) to allow, upon request, the incidental, but not intentional, taking of small numbers of marine mammals by U.S. citizens who engage in a specified activity (other than commercial fishing) within a specified geographical region if certain findings are made and either regulations are issued or, if the taking is limited to harassment, a notice of a proposed incidental take authorization (ITA) may be provided to the public for review.

Authorization for incidental takings shall be granted if NMFS finds that the taking will have a negligible impact on the species or stock(s) and will not have an unmitigable adverse impact on the availability of the species or stock(s) for taking for subsistence uses (where relevant). Further, NMFS must prescribe the permissible methods of taking and other “means of effecting the least practicable adverse impact” on the affected species or stocks and their habitat, paying particular attention to rookeries, mating grounds, and areas of similar significance, and on the availability of such species or stocks for taking for certain subsistence uses (referred to in shorthand as “mitigation”); and requirements pertaining to the mitigation, monitoring and reporting of such takings are set forth. The definitions of all applicable MMPA statutory terms cited above are included in the relevant sections below.

NMFS issued regulations in 2020 that govern the taking of marine mammals incidental to ice road and ice trail construction, maintenance, and operation in Alaska's North Slope. The regulations, which are effective through November 30, 2025, were issued in response to an application from Hilcorp Alaska, LLC (Hilcorp) and Eni US Operating Co. Inc. (Eni) (85 FR 83451, December 22, 2020). Under those regulations, NMFS issued LOAs to Hilcorp and Eni (85 FR 83451). Description of the activities, as well as analysis related to the issuance of those LOAs, is available in the proposed and final rules (85 FR 2988, January 17, 2020; 85 FR 83451, December 22, 2020).

Summary of Request

On October 4, 2024, Hilcorp requested the transfer of Eni's LOA to Hilcorp because Hilcorp was expected to become the owner and operator of the Unit previously owned and operated by Eni as of November 1, 2024. Eni confirmed this in an October 23, 2024, letter to NMFS. Hilcorp agrees to comply with the terms, conditions, stipulations, and restrictions of the original LOA to Eni. No other changes were requested. The revised LOA remains effective through November 30, 2025.

The revised LOA sets forth only a change in the LOA holder's name. There are no other changes to the LOA as described in the December 22, 2020, final rule and notice of issuance of LOAs (85 FR 83451).

Authorization

NMFS is changing the name of the holder of the LOA from “Eni” to “Hilcorp”.

Dated: November 1, 2024.
Kimberly Damon-Randall,
Director, Office of Protected Resources, National Marine Fisheries Service.

[FR Doc. 2024-25813 Filed 11-5-24; 8:45 am]

BILLING CODE 3510-22-P